DEPARTMENT OF THE INTERIOR

Species at Risk Program

AGENCY: U.S. Geological Survey.

ACTION: Notice of availability.

SUMMARY: The U.S. Geological Survey is announcing the availability of funds through the Species at Risk Program (SAR). The basic purpose of SAR is to fund short-term research and assessment projects to generate information that allows development of conservation agreements, action plans, and management alternatives that provide for the protection of flora and fauna and their habitats and thereby reduce the need for listing species as threatened or endangered.

DATES: Information packages describing requirements for participation in this program will be available upon request until November 2, 2000. Pre-proposals are due to the address below by November 3, 2000.

ADDRESSES: Parties interested in this program should request an information package from: Species at Risk Program, U.S. Geological Survey, 12201 Sunrise Valley Drive, MS 301, Reston, VA 20192 ATTN: Dr. Al Sherk.

FOR FURTHER INFORMATION CONTACT: Dr. Al Sherk, Species at Risk Program, U.S. Geological Survey, 12201 Sunrise Valley Drive, MS 301, Reston, VA 20192; Al_Sherk@usgs.gov; or 703-648-4076.

SUPPLEMENTARY INFORMATION:

Purpose

Species at Risk (SAR) is a program that develops scientific information on the status of sensitive species or groups of species, particularly with respect to the relationship of species abundance and distribution to habitat conditions and environmental stresses. The basic purpose of SAR is to generate information that allows the development of conservation agreements, action plans, management alternatives, etc., to provide for the protection of species and their habitats and thereby preclude the need for listing species as threatened or endangered.

The initiative provides an opportunity for scientists to participate through survey and research activities. Projects are specifically intended to be of short duration and should seek to optimize partnerships with Federal agencies, states, universities, and the private sector. Successful SAR projects are often conducted by investigators who have identified key, small but critical gaps in our biological knowledge. Projects provide resource managers, regulators, and private landowners with usable information for which prudent resource management decisions can be based. Projects must be new, self-contained work designed to be completed, including the final report, within 18 months.

Projects must focus on species or groups of species for which there is concern but limited information. Projects that focus on groups of species within the same habitat or ecosystem are encouraged. Projects should identify or develop new information that will reduce the need for a formal listing under the Endangered Species Act of 1972, as amended. Regional and national offices of the U.S. Fish and Wildlife Service have provided a list of species or groups and their management needs. Projects must focus on these species or groups and demonstrate how they support management needs. Principal investigators are encouraged to communicate directly with USFWS regional contacts before project submission.

This program is conducted in furtherance of the Secretary's obligations under the Fish and Wildlife Act of 1956 (16 U.S.C. 742a-742j, as amended) and the Fish and Wildlife Coordination Act (16 U.S.C. 661-667e, as amended).

B. Background

The U.S. Geological Survey gathers and analyzes biological information and serves as an information clearinghouse, providing broad access to the widest possible range of factual data on the status and trends of the Nation's biota and the potential effects of land management choices. This information serves public and private landowners who are interested in sustaining biological resources. It also provides understanding to help avoid conflicts that can both impede development and degrade natural habitats.

The Species at Risk Program will develop scientific information and alternatives to assist Federal, State, and other land managers in their decisions regarding the protection of sensitive species and habitats.

C. Availability of Funds

Through this program, pre-proposals are invited for funding in Fiscal Year 2001 from non-Federal research, scientific or technical organizations. Total funding anticipated for the fiscal year is approximately 370,000. Monies will be provided to successful applicants on a competitive basis. There is no minimum project cost; the maximum project cost will be $80,000.

Funds for this program are not currently available. Funding of the program is contingent on a Fiscal Year 2001 appropriation.

D. Eligibility Requirements

Under the terms specified in the information package, pre-proposals will be accepted from State agencies, private and industry groups, academic institutions, and Native American Tribes and Nations. Pre-proposals will be evaluated in light of their relevance to an identified management need, partnership opportunities, potential for providing useful information to resource managers, potential for conservation agreements, possibilities for cost sharing, and demonstration of successful completion within 18 months of date of initiation. Possible selectees will then be invited to submit a full project proposal for scientific peer review and consideration of funding.

E. Application Process

Parties interested in participating in this program should request an information package that will include detailed application forms, proposal format requirements, etc., from:

Mail: Species at Risk Program, U.S. Geological Survey, 12201 Sunrise Valley Drive, MS 301, Reston, VA 20192, Attn: Dr. Al Sherk

or E-Mail: Al­Sherk@usgs.gov

or Call: (703)648-4076.

F. Dates

Notice of interest in this program must be received by November 2, 2000.

Susan D. Haseltine,
Assocaite Chief Biologist for Science.

[FR Doc. 00-24593 Filed 9-25-00; 8:45 am]

BILLING CODE 4310-Y7-M